DEPARTMENT OF TRANSPORTATION

[FHWA-DC-2011-01-F]

Notice of Availability of the Finding of No Significant Impact for the Metropolitan Branch Trail

AGENCIES: Federal Highway Administration, District of Columbia Division; and District Department of Transportation; in cooperation with the National Park Service.

ACTION: Notice of availability of the Finding of No Significant Impact for the Metropolitan Branch Trail (MBT) Project.

SUMMARY: The U.S. Federal Highway Administration (FHWA) and the District Department of Transportation (DDOT) as lead agencies, and in cooperation with the National Park Service (NPS), announce the availability of the Finding of No Significant Impact (FONSI) for the Metropolitan Branch Trail Project, pursuant to the requirements of the National Environmental Policy Act of 1969 (NEPA), 42 U.S.C. 4321-4347; the Council on Environmental Quality Regulations (40 CFR parts 1500-1508); and the FHWA Environmental Impact and Related Procedures (23 CFR 771).

FOR FURTHER INFORMATION CONTACT: Federal Highway Administration, District of Columbia Division: Mr. Michael Hicks, Environmental/Urban Engineer, 1990 K Street, NW., Suite 510, Washington, DC 20006-1103, (202) 219-3536; or District Department of Transportation: Heather Deutsch, Bicycle Program Specialist/Trail Planner, Policy, Planning and Sustainability Administration, District Department of Transportation, 55 M Street, SE., Suite 500, Washington, DC 20003, (202) 671-2638.

SUPPLEMENTARY INFORMATION: The proposed action evaluated in the Environmental Assessment (EA) includes construction of a multi-use trail facility following the Metro red line from Fort Totten to Takoma and the Metro green line from Fort Totten to the District border.

This EA analyzed the potential impacts resulting from constructing and operating the MBT on sections of land owned by the NPS within the area north of Fort Totten (Reservation 451 West), the area east of Fort Totten (Reservation 451 East), the Community Gardens (Reservation 497), and Tacoma Park (Reservation 531). Following the public comment period, DDOT identified Alternatives A1, B1, C1 and/or C2 as the Preferred Alternatives.

The FHWA has determined that the Preferred Alternative and options will not have a significant impact on the natural, human or built environment as defined by CEQ. This Finding of No Significant Impact (FONSI) is based on the findings of the proposed project's Final EA, and comments submitted during preparation of the EA. The Final EA has been evaluated by the FHWA, using CEQ regulations and FHWA and NPS guidelines, and determined to adequately discuss the need, environmental issues, and impacts of the proposed project and appropriate mitigation measures. It provides sufficient evidence and analysis for determining that an environmental impact statement is not required.

ELECTRONIC AND HARD COPY ACCESS: An electronic copy of this document may be downloaded from the Project Web Site: http://www.metbranchtrail.com. Hard copies of the FONSI may also be viewed at the following locations:

District Department of Transportation, Policy, Planning and Sustainability Administration, 55 M Street, SE., 4th Floor, Washington, DC 20003.

Martin Luther King, Jr. Memorial Library, 901 G Street, NW., Washington, DC 20001.

Joseph C. Lawson,
Division Administrator.

[FR Doc. 2011-24889 Filed 9-27-11; 8:45 am]

BILLING CODE 4910-22-P